DEPARTMENT OF TRANSPORTATION

National Highway Traffic Safety Administration

49 CFR Part 571

[Docket No. NHTSA-2024-0012]

RIN 2127-AM43

Federal Motor Vehicle Safety Standards; FMVSS No. 305a Electric-Powered Vehicles: Electric Powertrain Integrity Global Technical Regulation No. 20, Incorporation by Reference

AGENCY: National Highway Traffic Safety Administration (NHTSA), Department of Transportation (DOT).

ACTION: Notice of proposed rulemaking (NPRM); Correction.

SUMMARY: This document corrects the DATES and ADDRESSES sections to a proposed rule published in the Federal Register on April 15, 2024, regarding Federal Motor Vehicle Safety Standard No. 305a Electric-Powered Vehicles: Electric Powertrain Integrity. The proposed rule included establishing new reporting and record retention requirements and, in compliance with the Paperwork Reduction Act of 1995 (PRA), NHTSA sought public comment on these new proposed information collections. The corrections add text under the DATES and ADDRESSES sections to include instructions for submitting comments regarding the new information collection requirements proposed in the NPRM.

DATES: Comments should be submitted no later than June 14, 2024. In compliance with the Paperwork Reduction Act, NHTSA is also seeking comment on a new information collection. For additional information, see the Paperwork Reduction Act section under the Rulemaking Analyses and Notices section below. All comments relating to the information collection requirements should be submitted to NHTSA and to the Office of Management and Budget (OMB) at the address listed in the ADDRESSES section on or before June 14, 2024.

Proposed compliance date: We propose that the compliance date for the proposed requirements be two years after the date of publication of the final rule in the Federal Register. Small-volume manufacturers, final-stage manufacturers, and alterers would be provided an additional year to comply with the rule beyond the date identified above. We propose to permit optional early compliance with the rule. After FMVSS No. 305a is finalized, NHTSA intends to sunset FMVSS No. 305.

ADDRESSES: You may submit comments identified by the docket number in the heading of this document or by any of the following methods:

• Federal eRulemaking Portal: Go to http://www.regulations.gov. Follow the instructions for submitting comments on the electronic docket site by clicking on “Help” or “FAQ.”

• Mail: Docket Management Facility. M-30, U.S. Department of Transportation. 1200 New Jersey Avenue SE, West Building, Ground Floor, Room W12-140, Washington, DC 20590.

• Hand Delivery: U.S. Department of Transportation, 1200 New Jersey Avenue SE, West Building, Ground Floor, Room W12-140, Washington, DC 20590 between 9 a.m. and 5 p.m. Eastern Time, Monday through Friday, except Federal Holidays.

• Fax: 202-493-2251.

Comments on the proposed information collection requirements should be submitted to: Office of Management and Budget at www.reginfo.gov/public/do/PRAMain. To find this particular information collection, select “Currently under Review—Open for Public Comment” or use the search function. It is requested that comments sent to the OMB also be sent to the NHTSA rulemaking docket identified in the heading of this document.

Instructions: All submissions must include the agency name and docket number. Note that all comments received will be posted without change to http://www.regulations.gov, including any personal information provided. Please see the Privacy Act discussion below. We will consider all comments received before the close of business on the comment closing date indicated above. To the extent possible, we will also consider comments filed after the closing date.

Docket: For access to the docket to read background documents or comments received, go to www.regulations.gov at any time or to 1200 New Jersey Avenue SE, West Building Ground Floor, Room W12-140, Washington, DC 20590, between 9 a.m. and 5 p.m., Monday through Friday, except Federal Holidays. Telephone: 202-366-9826.

Confidential Business Information: If you claim that any of the information in your comment (including any additional documents or attachments) constitutes confidential business information within the meaning of 5 U.S.C. 552(b)(4) or is protected from disclosure pursuant to 18 U.S.C. 1905, please see the detailed instructions given under the Public Participation heading of the SUPPLEMENTARY INFORMATION section of this document.

Privacy Act: In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. In order to facilitate comment tracking and response, we encourage commenters to provide their name, or the name of their organization; however, submission of names is completely optional. Whether or not commenters identify themselves, all timely comments will be fully considered.

FOR FURTHER INFORMATION CONTACT: K. Helena Sung, Office of the Chief Counsel, NHTSA, at 202-366-2992.

SUPPLEMENTARY INFORMATION:

Need for Correction

The NPRM published on April 15, 2024 (89 FR 26704) did not contain all necessary information in the DATES and ADDRESSES sections regarding submitting comments on the new information collection requirements included in the proposal. This document corrects the DATES and ADDRESSES section to include that information. The corrected DATES and ADDRESSES are also included above, for clarity.

Correction

The proposed rule FR Doc. 2024-07646 appearing on page 26704 in the issue of April 15, 2024, is corrected as follows:

1. On page 26704, in the first column, after the first sentence under the DATES caption, add the following:

“In compliance with the Paperwork Reduction Act, NHTSA is also seeking comment on a new information collection. For additional information, see the Paperwork Reduction Act section under the Rulemaking Analyses and Notices section below. All comments relating to the information collection requirements should be submitted to NHTSA and to the Office of Management and Budget (OMB) at the address listed in the ADDRESSES section on or before June 14, 2024.”

2. On page 26704, in the second column, after the fax information bullet under the ADDRESSES caption, add the following:

“Comments on the proposed information collection requirements should be submitted to: Office of Management and Budget at www.reginfo.gov/public/do/PRAMain. To find this particular information collection, select “Currently under Review—Open for Public Comment” or use the search function. It is requested that comments sent to the OMB also be sent to the NHTSA rulemaking docket identified in the heading of this document.”

Authority: 49 U.S.C. 322, 30111, 30115, 30117, 30122 and 30166; delegation of authority at 49 CFR 1.95 and 501.8.

Raymond. R. Posten,
Associate Administrator for Rulemaking.

[FR Doc. 2024-11404 Filed 5-23-24; 8:45 am]

BILLING CODE 4910-59-P